SECURITIES AND EXCHANGE COMMISSION

[File No. 500-1]

In the Matter of Adex Media, Inc. et al.; Order of Suspension of Trading

March 2, 2015.

It appears to the Securities and Exchange Commission that there is a lack of current and accurate information concerning the securities of each of the issuers detailed below because questions have arisen as to their operating status, if any. Each of the issuers below is quoted on OTC Link operated by OTC Markets Group, Inc. OTC Markets Group, Inc., however, has been unable to contact each of these issuers for more than one year. In addition, the staff of the Securities and Exchange Commission has independently endeavored to determine whether any of the issuers below are operating. Each of the issuers below either confirmed that they were no longer operating or were now private companies, failed to respond to the Commission's inquiry about their operating status, did not have an operational address, or failed to provide their registered agent with an operational address. The staff of the Securities and Exchange Commission also determined that none of the issuers below has filed any information with OTC Markets Group, Inc. or the Securities and Exchange Commission for the past year.

Issuer | Ticker | Information regarding operating status *
1. Adex Media, Inc | ADXM | 2
2. AdStar, Inc | ADST | 1
3. Alternative Green Technologies, Inc | AGTI | 1
4. American City Bank (Los Angeles, CA) | ACBK | 1
5. American Mold Guard, Inc | AMGI | 1
6. American Uranium Corp | ACUC | 1
7. Americana Distribution, Inc | ADBN | 1
8. Atlantis Technology Group | ATNP | 1
9. Azure Dynamics Corp | AZDDQ | 1
10. Bald Eagle Energy, Inc | BEEI | 1
11. Betawave Corp | BWAV | 1
12. Beverly Hills Bancorp, Inc | BHBCQ | 2
13. Blue Holdings, Inc | BLHI | 1
14. California-Michigan Land & Water Co | CMLW | 2
15. Cannon Exploration, Inc | CNEX | 1
16. Carlton Companies, Inc (The) | CTNO | 1
17. China Daqing M&H Petroleum, Inc | CHDP | 1
18. China Gateway Corp | CGWY | 1
19. China M161 Network Co | CMNW | 1
20. ClearPoint Business Resources, Inc | CPBRQ | 1
21. Collexis Holdings, Inc | CLXS | 1
22. Colonial Capital Trust IV | CBCPQ | 1
23. CommercePlanet, Inc | CPLT | 1
24. Commodore Applied Technologies, Inc | CXIA | 2
25. Composite Power Corp | CPWW | 1
26. Consolidated Plen Tech Electronics, Inc | CSPT | 1
27. Consumer Products Services Group, Inc | CPSV | 1
28. Corprate Data Sciences, Inc | CODS | 1
29. Corprate Management Solutions, Inc | YDGE | 1
30. Data Evolution Holdings, Inc | DTEV | 1
31. Degama Software Solutions, Inc | DGMA | 1
32. EarthFirst Technologies, Inc | EFTI | 2
33. ebank Financial Services, Inc | EBDC | 2
34. Ecuity, Inc | ECUI | 1
35. EM International Enterprises Corp | EMIE | 1
36. EYI Industries, Inc | EYII | 1
37. Factory 2-U Stores, Inc | FTUSQ | 1
38. Fashion House Holdings, Inc (The) | FHHIQ | 1
39. Fidelis Energy, Inc | FDEI | 1
40. First Vietnamese American Bank (Westminster CA) | FVAB | 2
41. Firstar Exploration Corp | FSRX | 1
42. Fusion Networks Holdings, Inc | FUSN | 1
43. Genius Products, Inc | GNPR | 1
44. Global Innovation Corp | GLBN | 1
45. Green Bridge Industries, Inc | GRBG | 1
46. GREM USA | GREM | 1
47. Grifco International, Inc | GFCI | 1
48. Hansheng Industrial Equipment Manufacturing (USA), Inc | HEQM | 1
49. Harvey Electronics, Inc | HRVEQ | 1
50. HIMC Corp | HMCO | 1
51. Immunosyn Corp | IMYN | 1
52. Imusic Worldwide, Ltd | IMWL | 1
53. Indie Ranch Media, Inc | INDR | 1
54. Industrial Enterprises of America, Inc | IEAM | 1
55. InNexus Biotechnology Inc | IXSBF | 1
56. Innovative Card Technologies, Inc | INVC | 1
57. Insight ID, Inc | INII | 1
58. Intelligentias, Inc | ITLI | 1
59. International Gold Resources, Inc | IGRU | 1
60. IR Biosciences Holdings, Inc | IRBS | 1
61. KBK Capital Trust I | KBKCP | 1
62. Lateral Media, Inc | LTLM | 1
63. Manaris (2010) Corp | AVNY | 1
64. Map Financial Group Inc | MAPF | 1
65. Marketing Concepts International | MCCI | 1
66. Marmion Industries Corp | MMIO | 1
67. Medwave, Inc | MDWV | 1
68. Metro One Development, Inc | MTRO | 1
69. Migami, Inc | MIGA | 1
70. Modern Technology Corp | MODC | 1
71. MotivNation, Inc | MOVT | 1
72. MyWeb Inccom | MWEB | 1
73. New World Brands, Inc | NWBD | 1
74. NexPrise, Inc | NXPS | 1
75. Odd Job Stores, Inc | ODDJ | 1
76. Oh Boy Industries, Inc | OHBO | 1
77. Ovale Group, Inc | OVLG | 1
78. Oyco, Inc | OYCO | 1
79. Pacer Health Corp | PHLH | 1
80. Pacific CMA, Inc | PACC | 1
81. Passport Brands, Inc | PBIX | 1
82. PERF Go-Green Holdings, Inc | PGOG | 1
83. PetroQuest Resources, Inc | PQRJ | 1
84. PinkMonkey.com, Inc | PMKY | 2
85. PlasmaTech, Inc | PMAH | 1
86. Plateau Mineral Development, Inc | PMDP | 1
87. Polar Wireless Corp | BCDI | 1
88. Pope & Talbot, Inc | PTBTQ | 1
89. Powerlinx, Inc | PWNX | 1
90. Previsto International Holdings, Inc | HLOI | 1
91. Proxim Corp | PROXQ | 2
92. Pure Transit Technologies, Inc | PTTL | 1
93. Pyrocap International Corp | PYOC | 1
94. Quality One Wireless, Inc | QOWI | 2
95. Quri Resources, Inc | QURS | 1
96. Raven Gold Corp | RVNG | 1
97. RCC Holdings Corp | RCCH | 1
98. Resource Recovery International Corp | RRIC | 1
99. Rockwood National Corp | RNTL | 1
100. Royalite Petroleum Co., Inc | RYPE | 1
101. Securac Corp | SECU | 1
102. Secure Path Technology Holdings, Inc | SPHT | 1
103. Signature Leisure, Inc | SGLS | 1
104. Silicon Mountain Holdings, Inc | SLCM | 2
105. SMAN Capital Trust I | SMANP | 1
106. Smart Move, Inc | SMVE | 1
107. SNTL Litigation Trust | SNLLZ | 1
108. SoftNet Technology Corp | SOFN | 1
109. Solutions Group, Inc | SOLU | 1
110. Southwest Casino Corp | SWCC | 1
111. Spectre Gaming, Inc | SGMG | 1
112. Spice Depot, Inc (The) | SDEO | 1
113. Striker Oil & Gas, Inc | SOIS | 1
114. Synergy Brands, Inc | SYBRQ | 1
115. Synovics Pharmaceuticals, Inc | SYVC | 1
116. Systech Systems International, Inc | SSYT | 1
117. TableMAX Corp | TBLX | 1
118. TAG Entertainment Corp | TAGE | 1
119. Techlabs, Inc | TCHL | 1
120. Teleplus World, Corp | TLPEQ | 1
121. Unitech Water & Renewable Energy, Inc | UWRE | 1
122. United Bullion Exchange, Inc | UBEX | 1
123. Upward Technology Corp | UPRD | 1
124. USDATA Corp | USDC | 1
125. Wentworth Energy, Inc | WNWG | 1
126. Winchester International Resorts, Inc | WNCH | 1
127. Worldwide E Commerce, Inc | WEWC | 1
128. Wyncrest Group, Inc (The) | WNCG | 1
* Below are explanations for each of the codes used in the above table:
1 = The Securities and Exchange Commission attempted to contact the issuer and either the Commission did not receive a response to its letter, the letters were returned as undeliverable, or the registered agent responded that they had no forwarding address for the issuer.
2 = The Securities and Exchange Commission was able to contact the issuer, which informed the Commission that either the issuer was no longer operating or was now a private company.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on March 2, 2015, through 11:59 p.m. EDT on March 13, 2015.

By the Commission.
Jill M. Peterson,
Assistant Secretary.

[FR Doc. 2015-04510 Filed 3-2-15; 4:15 pm]

BILLING CODE 8011-01-P